DEPARTMENT OF COMMERCE

International Trade Administration

[C-570-971]

Multilayered Wood Flooring From the People's Republic of China: Preliminary Results of Countervailing Duty Administrative Review, Rescission of Review, in Part, and Intent To Rescind the Review, in Part; 2015

AGENCY: Enforcement and Compliance, International Trade Administration, Department of Commerce.

SUMMARY: The Department of Commerce (Department) preliminarily determines that countervailable subsidies are being provided to producers and exporters of multilayered wood flooring (wood flooring) from the People's Republic of China (PRC). The period of review (POR) is January 1, 2015, through December 31, 2015.

DATES: Applicable December 7, 2017.

FOR FURTHER INFORMATION CONTACT: Dennis McClure or Jesus Saenz, AD/CVD Operations, Office VIII, Enforcement and Compliance, International Trade Administration, U.S. Department of Commerce, 1401 Constitution Avenue NW., Washington, DC 20230; telephone: 202-482-5973 or 202-482-8184, respectively.

SUPPLEMENTARY INFORMATION:

Background

On December 8, 2011, the Department issued a countervailing duty (CVD) order on multilayered wood flooring from the PRC.¹ Several interested parties requested that the Department conduct an administrative review of the countervailing duty order, and on February 13, 2017, the Department published in the Federal Register a notice of initiation of an administrative review of the Order for 113 producers/exporters for the POR.²

¹ See Multilayered Wood Flooring from the People's Republic of China: Countervailing Duty Order, 76 FR 76693 (December 8, 2011) (Order).

² See Initiation of Antidumping and Countervailing Duty Administrative Reviews, 82 FR 10457 (February 13, 2017) (Initiation Notice).

Scope of the Order

The product covered by the Order is wood flooring from the PRC. For a complete description of the scope of this administrative review, see the Preliminary Decision Memorandum.³

³ See Memorandum, “Decision Memorandum for the Preliminary Determination in the Countervailing Duty Administrative Review of Multilayered Wood Flooring from the People's Republic of China: 2015” (Preliminary Decision Memorandum), dated concurrently with, and hereby adopted by, this notice.

Rescission of Administrative Review, in Part

Pursuant to 19 CFR 351.213(d)(1), the Secretary will rescind an administrative review, in whole or in part, if the parties that requested a review withdraw the request within 90 days of the date of publication of the notice of initiation of the requested review. This review was initiated on February 13, 2017. Both Dalian Penghong Floor Products Co., Ltd. (Dalian Penghong) and the petitioner withdrew their request for a review of Dalian Penghong on March 27, 2017, which was within the 90-day deadline.⁴ Therefore, because there are no remaining requests to review this company, in accordance with 19 CFR 351.213(d)(1), and consistent with our practice, we are rescinding this review with respect to Dalian Penghong.

⁴ See Dalian Penghong Floor Products Co., Ltd.'s Letter, “Multilayered Wood Flooring from the People's Republic of China Withdrawal of Request for Review,” dated March 27, 2017; see also Coalition for American Hardwood Parity's (Petitioner) Letter, “Partial Withdrawal of Request for Administrative Review” dated March 27, 2017.

Intent To Rescind Administrative Review, in Part

We received timely filed no-shipment certifications from four companies.⁵ The Department issued no-shipment inquiries to Customs Border Protection (CBP) requesting any information that may contradict the no-shipment claims. We have not received information to date from CBP that contradicts Changbai Mountain's, Jiangsu Yuhui's, Jiaxing Hentong Wood's, and Zhejiang Shuimojiangnan's claims of no sales, shipments, or entries of subject merchandise to the United States during the POR.⁶ Because these companies timely filed their no-shipment certifications and CBP has not provided information that contradicts the companies' claims, we preliminarily intend to rescind the review of these companies. Absent any evidence of shipments being placed on the record, pursuant to 19 CFR 351.213(d)(3), we intend to rescind the administrative review of these companies in the final results of review.

⁵ See Changbai Mountain Development and Protection Zone Hongtu Wood Industrial Co., Ltd.'s (Changbai Mountain) and Jiangsu Yuhui International Trade Co., Ltd.'s (Jiangsu Yuhui) Letter, “Multilayered Wood Flooring from the People's Republic of China: No Shipments Certification,” dated March 1, 2017; Jiaxing Hengtong Wood Co., Ltd.'s (Jiaxing Hengtong Wood) Letter, “Multilayered Wood Flooring from the People's Republic of China: No Sales Certification,” dated March 13, 2017; Zhejiang Shuimojiangnan New Material Technology Co., Ltd.'s (Zhejiang Shuimojiangnan) Letter, “Multilayered Wood Flooring from the People's Republic of China: No Sales Certification,” dated March 13, 2017.

⁶ See Memorandum, “Release of U.S. Customs and Border Protection Information Relating to No Shipment Claims Made in the 2015 Administrative Review of Multilayered Wood Flooring from the People's Republic of China,” dated September 25, 2017, (stating that the CBP no-shipment data query identified entries of subject merchandise by Jiangsu Keri Wood, but did not identify entries of subject merchandise by Changbai Mountain, Jiangsu Yuhui, Jiaxing Hentong Wood, and Zhejiang Shuimojiangnan).

Jiangsu Keri Wood and Linyi Bonn also timely filed no-shipment certifications.⁷ However, both companies subsequently withdrew their no-shipment submissions.⁸ Therefore, we are continuing to include Linyi Bonn and Jiangsu Keri Wood in this administrative review for purposes of the preliminary results.

⁷ See Jiangsu Keri Wood Co., Ltd.'s (Jiangsu Keri Wood) Letter, “Multilayered Wood Flooring from the People's Republic of China: No Shipments Certification,” dated March 2, 2017; Linyi Bonn Flooring Manufacturing Co., Ltd.'s (Linyi Bonn) Letter, “Multilayered Wood Flooring from the People's Republic of China: No Shipments Certification,” dated March 3, 2017.

⁸ See Jiangsu Keri Wood's Letter, “Multilayered Wood Flooring from the People's Republic of China: Comments on No Shipments Letter,” dated September 29, 2017; Linyi Bonn's Letter, “Multilayered Wood Flooring from the People's Republic of China: Withdrawal of No Shipments Certification,” dated June 12, 2017.

Methodology

The Department is conducting this countervailing duty (CVD) review in accordance with section 751(a)(1)(A) of the Tariff Act of 1930, as amended (Act). For each of the subsidy programs found countervailable, we preliminarily determine that there is a subsidy, i.e., a financial contribution by an “authority” that confers a benefit to the recipient, and that the subsidy is specific.⁹ For a full description of the methodology underlying our preliminary conclusions, see the Preliminary Decision Memorandum.

⁹ See sections 771(5)(B) and (D) of the Act regarding financial contribution; section 771(5)(E) of the Act regarding benefit; and section 771(5A) of the Act regarding specificity.

The Preliminary Decision Memorandum is a public document and is on file electronically via Enforcement and Compliance's Antidumping and Countervailing Duty Centralized Electronic Service System (ACCESS). ACCESS is available to registered users at https://access.trade.gov and in the Central Records Unit, Room B8024 of the main Department building. In addition, a complete version of the Preliminary Decision Memorandum can be accessed directly on the Internet at http://enforcement.trade.gov/frn/index.html. The signed Preliminary Decision Memorandum and the electronic version of the Preliminary Decision Memorandum are identical in content. A list of topics discussed in the Preliminary Decision Memorandum is included as an Appendix to this notice.

In making these preliminary results, the Department relied, in part, on facts otherwise available.¹⁰ For further information, see “Provision of Electricity for Less Than Adequate Remuneration (LTAR)” in the Preliminary Decision Memorandum.

¹⁰ See section 776(a) of the Act.

Rate for Non-Selected Companies Under Review

There are 105 companies for which a review was requested and not rescinded, and which were not selected as mandatory respondents. For these companies, we are preliminarily applying the rate of mandatory respondent, Fine Furniture (Shanghai) Limited (Fine Furniture), which is above de minimis. For further information on the calculation of the non-selected rate, refer to the section in the Preliminary Decision Memorandum entitled, “Preliminary Ad Valorem Rate for Non-Selected Companies Under Review.”

Preliminary Results of the Review

In accordance with 19 CFR 351.221(b)(4)(i), we calculated a countervailable subsidy rate for each of the mandatory respondents, Jiangsu Senmao Bamboo Wood Industry Co., Ltd. (Jiangsu Senmao) and Fine Furniture, and their cross-owned affiliates where applicable.

We preliminarily find the countervailable subsidy rates for the mandatory respondents under review to be as follows:

Producer/exporter | Subsidy rate (percent)
Jiangsu Senmao Bamboo Wood Industry Co., Ltd | * 0.06
Fine Furniture (Shanghai) Limited | 0.89
A&W (Shanghai) Woods Co., Ltd | 0.89
Anhui Boya Bamboo & Wood Products Co., Ltd | 0.89
Anhui Longhua Bamboo Product Co., Ltd | 0.89
Anhui Suzhou Dongda Wood Co., Ltd | 0.89
Baishan Huafeng Wood Product Co., Ltd | 0.89
Baiying Furniture Manufacturer Co., Ltd | 0.89
Benxi Wood Company | 0.89
Changzhou Hawd Flooring Co., Ltd | 0.89
Cheng Hang Wood Co., Ltd | 0.89
Chinafloors Timber (China) Co. Ltd | 0.89
Dalian Dajen Wood Co., Ltd | 0.89
Dalian Huade Wood Product Co., Ltd | 0.89
Dalian Huilong Wooden Products Co., Ltd | 0.89
Dalian Jaenmaken Wood Industry Co., Ltd | 0.89
Dalian Jiahong Wood Industry Co., Ltd | 0.89
Dalian Jiuyuan Wood Industry Co., Ltd | 0.89
Dalian Kemian Wood Industry Co., Ltd | 0.89
Dalian Xinjinghua Wood Co., Ltd | 0.89
Dongtai Fuan Universal Dynamics, LLC | 0.89
Dongtai Zhangshi Wood Industry Co. Ltd | 0.89
Dunhua City Dexin Wood Industry Co., Ltd | 0.89
Dunhua City Hongyuan Wood Industry Co., Ltd | 0.89
Dunhua City Jisen Wood Industry Co., Ltd | 0.89
Dunhua City Wanrong Wood Industry Co., Ltd | 0.89
Dunhua Shengda Wood Industry Co., Ltd | 0.89
Fu Lik Timber (HK) Co., Ltd | 0.89
Fusong Jinlong Wooden Group Co., Ltd | 0.89
Fusong Qianqiu Wooden Product Co., Ltd | 0.89
GTP International Ltd | 0.89
Guangdong Yihua Timber Industry Co., Ltd | 0.89
Guangzhou Homebon Timber Manufacturing Co., Ltd | 0.89
Guangzhou Panyu Kangda Board Co., Ltd | 0.89
Guangzhou Panyu Southern Star Co., Ltd | 0.89
HaiLin LinJing Wooden Products, Ltd | 0.89
HaiLin XinCheng Wooden Products, Ltd | 0.89
Hangzhou Dazhuang Floor Co., Ltd | 0.89
Hangzhou Hanje Tec Co., Ltd | 0.89
Hangzhou Huahi Wood Industry Co., Ltd | 0.89
Huber Engineering Wood Corp | 0.89
Hunchun Forest Wolf Wooden Industry Co., Ltd | 0.89
Hunchun Xingjia Wooden Flooring Inc | 0.89
Hunchun Forest Wolf Wooden Industry Co., Ltd | 0.89
Hunchun Xingjia Wooden Flooring Inc | 0.89
Huzhou Chenghang Wood Co., Ltd | 0.89
Huzhou City Nanxun Guangda Wood Co., Ltd | 0.89
Huzhou Fulinmen Imp. & Exp. Co., Ltd | 0.89
Huzhou Fuma Wood Co., Ltd | 0.89
Huzhou Fuma Wood Bus. Co., Ltd | 0.89
Huzhou Jesonwood Co., Ltd | 0.89
Huzhou Muyun Wood Co., Ltd | 0.89
Huzhou Sunergy World Trade Co., Ltd | 0.89
Jiashan Huijiale Decoration Material Co., Ltd | 0.89
Jiafeng Wood (Suzhou) Co., Ltd | 0.89
Jiangsu Guyu International Trading Co., Ltd | 0.89
Jiangsu Kentier Wood Co., Ltd | 0.89
Jiangsu Keri Wood Co., Ltd | 0.89
Jiangsu Mingle Flooring Co | 0.89
Jiangsu Simba Flooring Co., Ltd | 0.89
Jiashan On-Line Lumber Co., Ltd | 0.89
Jilin Forest Industry Jinqiao Flooring Group Co., Ltd | 0.89
Jilin Xinyuan Wooden Industry Co., Ltd | 0.89
Karly Wood Product Limited | 0.89
Kember Flooring, Inc | 0.89
Kemian Wood Industry (Kunshan) Co., Ltd | 0.89
Kingman Floors Co., Ltd | 0.89
Les Planchers Mercier, Inc | 0.89
Linyi Anying Wood Co., Ltd | 0.89
Linyi Bonn Flooring Manufacturing Co., Ltd | 0.89
Linyi Youyou Wood Co., Ltd | 0.89
Metropolitan Hardwood Floors, Inc | 0.89
Mudanjiang Bosen Wood Industry Co., Ltd | 0.89
Nakahiro Jyou Sei Furniture (Dalian) Co., Ltd | 0.89
Pinge Timber Manufacturing (Zhejiang) Co., Ltd | 0.89
Power Dekor Group Co., Ltd. (Exp) | 0.89
Qingdao Barry Flooring Co., Ltd | 0.89
Shandong Kaiyuan Wood Industry Co., Ltd | 0.89
Shanghai Anxin (Weiguang) Timber Co., Ltd | 0.89
Shanghai Eswell Timber Co., Ltd | 0.89
Shanghai Lairunde Wood Co., Ltd | 0.89
Shanghai Lizhong Wood Products Co., Ltd./ The Lizhong Wood Industry Limited Company of Shanghai | 0.89
Shanghai New Sihe Wood Co., Ltd | 0.89
Shanghai Shenlin Corporation | 0.89
Shenyang Haobainian Wooden Co., Ltd | 0.89
Shenzhenshi Huanwei Woods Co., Ltd | 0.89
Sino-Maple (Jiangsu) Co., Ltd | 0.89
Suzhou Dongda Wood Co., Ltd | 0.89
Tongxiang Jisheng Import and Export Co., Ltd | 0.89
Vicwood Industry (Suzhou) Co. Ltd | 0.89
Xiamen Yung De Ornament Co., Ltd | 0.89
Xuzhou Antop International Trade Co., Ltd | 0.89
Xuzhou Shenghe Wood Co., Ltd | 0.89
Yekalon Industry, Inc. (Exp) | 0.89
Yihua Lifestyle Technology Co., Ltd | 0.89
Yingyi-Nature (Kunshan) Wood Industry Co., Ltd | 0.89
Yixing Lion-King Timber Industry | 0.89
Zhejiang Biyork Wood Co., Ltd | 0.89
Zhejiang Dadongwu Green Home Wood Co., Ltd | 0.89
Zhejiang Desheng Wood Industry Co., Ltd | 0.89
Zhejiang Fudeli Timber Industry Co., Ltd | 0.89
Zhejiang Fuerjia Wooden Co., Ltd | 0.89
Zhejiang Fuma Warm Technology Co., Ltd | 0.89
Zhejiang Haoyun Wooden Co., Ltd | 0.89
Zhejiang Longsen Lumbering Co., Ltd | 0.89
Zhejiang Simite Wooden Co., Ltd | 0.89
Zhejiang Shiyou Timber Co., Ltd | 0.89
* De minimis.

Disclosure and Public Comment

We will disclose to parties in this proceeding the calculations performed in reaching the preliminary results within five days of publication of these preliminary results.¹¹ Interested parties may submit written comments (case briefs) on the preliminary results no later than 30 days from the date of publication of this Federal Register notice, and rebuttal comments (rebuttal briefs) within five days after the time limit for filing case briefs.¹² Pursuant to 19 CFR 351.309(d)(2), rebuttal briefs must be limited to issues raised in the case briefs. Parties who submit arguments are requested to submit with the argument: (1) A statement of the issue; (2) a brief summary of the argument; and (3) a table of authorities.

¹¹ See 19 CFR 351.224(b).

¹² See 19 CFR 351.309(c)(1)(ii) and 351.309(d)(1).

Pursuant to 19 CFR 351.310(c), interested parties who wish to request a hearing must submit a written request to the Assistant Secretary for Enforcement and Compliance within 30 days of the date of publication of this notice. Requests should contain: (1) The party's name, address and telephone number; (2) the number of participants; and (3) a list of issues parties intend to discuss. Issues raised in the hearing will be limited to those raised in the respective case and rebuttal briefs. If a request for a hearing is made, the Department intends to hold the hearing at the U.S. Department of Commerce, 1401 Constitution Avenue NW, Washington, DC 20230, at a date and time to be determined.¹³ Parties should confirm by telephone the date, time, and location of the hearing two days before the scheduled date.

¹³ See 19 CFR 351.310.

Parties are reminded that briefs and hearing requests are to be filed electronically using ACCESS and that electronically filed documents must be received successfully in their entirety by 5 p.m. Eastern Time on the due date.

Unless the deadline is extended pursuant to section 751(a)(3)(A) of the Act, we intend to issue the final results of this administrative review, including the results of our analysis of the issues raised by the parties in their comments, within 120 days after publication of these preliminary results.

Assessment Rates

Consistent with section 751(a)(1) of the Act, upon issuance of the final results, the Department shall determine, and U.S. Customs and Border Protection (CBP) shall assess, countervailing duties on all appropriate entries covered by this review. We intend to issue instructions to CBP 15 days after publication of the final results of this review. For Dalian Penghong for which this review is rescinded, the Department will instruct CBP to assess countervailing duties on all appropriate entries at a rate equal to the cash deposit of estimated countervailing duties required at the time of entry, or withdrawal from warehouse, for consumption, during the period January 1, 2015, through December 31, 2015, in accordance with 19 CFR 351.212(c)(l)(i). The Department intends to issue appropriate assessment instructions directly to CBP 15 days after publication of this notice.

Cash Deposit Requirements

In accordance with section 751(a)(1) of the Act, the Department intends to instruct CBP to collect cash deposits of estimated countervailing duties in the amounts shown for each of the respective companies listed above. For all non-reviewed firms, we will instruct CBP to continue to collect cash deposits at the most recent company-specific or all-others rate applicable to the company. These cash deposit requirements, when imposed, shall remain in effect until further notice.

This administrative review and notice are in accordance with sections 751(a)(1) and 777(i) of the Act and 19 CFR 351.213.

Dated: December 1, 2017.
Gary Taverman,
Deputy Assistant Secretary for Antidumping and Countervailing Duty Operations, performing the non-exclusive functions and duties of the Assistant Secretary for Enforcement and Compliance.

Appendix

List of Topics Discussed in the Preliminary Decision Memorandum

I. Summary

II. Background

A. Case History

B. Postponement of Preliminary Results

C. Period of Review

D. Rescission of Review, In Part

E. Intent to Rescind, in Part, the Administrative Review

III. Scope of the Order

IV. Use of Facts Otherwise Available and Application of Adverse Inferences

V. Subsidies Valuation

A. Allocation Period

B. Attribution of Subsidies

C. Denominators

D. Discount Rates

VI. Analysis of Programs

A. Programs Preliminarily Determined to Be Countervailable

B. Programs Preliminarily Determined to Be Not Used

VII. Preliminary Ad Valorem Rate for Non-Selected Companies Under Review

VIII. Recommendation

[FR Doc. 2017-26381 Filed 12-6-17; 8:45 am]

BILLING CODE 3510-DS-P